DEPARTMENT OF JUSTICE

Antitrust Division

Notice Pursuant to the National Cooperative Research and Production Act of 1993—Medical Technology Enterprise Consortium

Notice is hereby given that, on January 28, 2019, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Worcester Polytechnic Institute, Worcester, MA; Odyssey Systems Consulting Group, Ltd., Wakefiled, MA; Serpin Pharma, Nokesville, VA; Csymplicity Software Solutions, Inc., Allentown, PA; Qrons, Inc., Miami, FL; Intelligent Optical Systems, Inc., Torrance, CA; Abfero Pharmaceuticals Inc., Boston, MA; Shamrock Medical LLC, Phoenix, AZ; Sleep Care, Inc., Columbus, OH; Solution Guidance Corporation, Chantilly, VA; Existential Technologies, Inc., Chula Vista, CA; Bionica Labs LLC, Richmond, VA; Acell, Inc., Columbia, MD; Awarables Inc., Baltimore, MD; Onera BV, AB Eindhoven, THE NETHERLANDS; Healios, Inc., Flemington, NJ; Sanofi Pasteur, Swiftwater, PA; Biobeat Technologies Ltd., Petach Tikva, ISRAEL; Sana Health, Inc., San Anselmo, CA; ThoraXS Israel 17 Ltd, Tzur hadassa, ISRAEL; ADM Tronics Unlimited, Inc., Northvale, NJ; Aktivax, Inc., Broomfield, CO; XSurgical, Inc., Ipswich, MA; 98point6 Inc., Seattle, WA; University of Montana, Missoula, MT; Engility Corporation, Chantilly, VA; Entasis Therapeutics, Waltham, MA; Thomas Jefferson University, Philadelphia, PA; Gryphon Bio, Inc., South San Francisco, CA; Arcos, Inc., and Missouri City, TX; have been added as parties to this venture.

Also, Actuated Medical, Inc., Bellefonte, PA; Disarm Therapeutics, Inc., Cambridge, MA; Global Virus Network, Inc., Baltimore, MD; Health Research, Inc.—Wadsworth Center, Menands, NY; Parsons Government Services Inc., Pasadena, CA; Perceptronics Solutions, Inc., Sherman Oaks, CA; Tallinn University of Technology, Tallin, ESTONIA; The Regents of the University of Michigan, Ann Arbor, MI; and The Washington University, St. Louis, MO; have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on October 12, 2018. A notice was published in the Federal Register pursuant to Section 6(b) of the Act on November 2, 2018 (83 FR 55204).

Suzanne Morris,
Chief, Premerger and Division Statistics Unit, Antitrust Division.

[FR Doc. 2019-03540 Filed 2-27-19; 8:45 am]

BILLING CODE 4410-11-P